DEPARTMENT OF ENERGY

National Energy Technology Laboratory; Notice of Availability of a Funding Opportunity

AGENCY: National Energy Technology Laboratory (NETL), Department of Energy (DOE).

ACTION: Notice of availability of a funding opportunity.

SUMMARY: Notice is hereby given of the intent to issue a Funding Opportunity No. DE-PS26-04NT15460 entitled “Focused Research in Federal Lands Access and Produced Water Management in Oil and Gas Exploration and Production.” The Department of Energy (DOE) National Energy Technology Laboratory (NETL), on behalf of its National Petroleum Technology Office (NPTO), seeks applications for cost-shared research projects that address specific Federal lands access or produced water management issues faced by the oil and gas industry. Applications will either address (1) solutions to improve access to oil and gas resources on Federal lands or (2) produced water management issues in low cost treatment technologies, beneficial use of produced water, or best management practices for handling, treatment and/or disposal. The goal is to provide solutions to issues that are limiting domestic on-shore or off-shore production while providing the same or higher levels of environmental protection.

DATES: The Funding Opportunity will be available on the DOE/NETL's Internet address at http://www.netl.doe.gov/business and on the “Industry Interactive Procurement System” (IIPS) Web page located at http://e-center.doe.gov on or about January 15, 2004.

FOR FURTHER INFORMATION CONTACT: Martin Byrnes, U.S. Department of Energy, National Energy Technology Laboratory, P.O. Box 10940, MS 921-107, Pittsburgh, PA 15236-0940. E-mail address: Martin.Byrnes@netl.doe.gov, telephone number: 412-386-4486.

SUPPLEMENTARY INFORMATION: The Department of Energy (DOE) National Energy Technology Laboratory (NETL), on behalf of its National Petroleum Technology Office (NPTO), is soliciting applications for cost-shared research projects that address access to Federal lands or produced water management issues faced by the oil and gas industry. The goal is to provide solutions to issues that are limiting domestic on-shore or off-shore production while providing the same or higher levels of environmental protection.

The mission of the Department of Energy's Fossil Energy Oil Program is derived from the National need for increased oil production for national security, requirements for Federal lands stewardship, and increased protection of the environment. The Oil and Gas Environmental Program supports those goals and the National Energy Policy goal of increasing domestic oil and gas production, by providing technologies and approaches that reduce the cost of effective environmental protection and by providing technologies and approaches that improve environmental protection.

The program will accept applications for cost-shared research projects that address (1) solutions to improve access to Federal lands or (2) produced water management issues in low cost treatment technologies, beneficial use of produced water, or best management practices for handling, treatment and/or disposal. The goal of this Funding Opportunity is to provide solutions to issues that are limiting domestic on-shore or off-shore production while providing the same or higher levels of environmental protection. These access issues and produced water management issues are limiting domestic production by restricting additional development or by adding costs that cause operators to abandon existing wells while substantial recoverable reserves remain in the ground.

The issues listed above are multi-faceted problems. In many cases, the overall solution may vary by region or may require several separate steps to resolve completely. Selected projects are expected to describe the overall problem and the region or regions affected as well as describing how the proposed project fits into the overall solution. Selected projects are also expected to describe as completely as possible the impact that the project will have on increasing or maintaining domestic production. The description of the production impact should discuss in detail the resource affected and the amount of domestic production that can be added or maintained as a result of the successful completion of the project.

DOE anticipates issuing financial assistance (Cooperative Agreement) awards. DOE reserves the right to support or not support, with or without discussions, any or all applications received in whole or in part, and to determine how many awards will be made. Multiple awards are anticipated. Approximately $9 million of DOE funding is planned over a 3 year period for this Funding Opportunity. The program seeks to sponsor projects for a single budget/project period of 36 months or less. All applicants are required to cost share at a minimum of 20% of the project total for projects submitted under the two areas of interest. Details of the cost sharing requirements, and the specific funding levels will be identified in Funding Opportunity. Telephone requests, written requests, E-mail requests, or facsimile requests for a copy of the Funding Opportunity package will not be accepted and/or honored. Applications must be prepared and submitted in accordance with the instructions and forms contained in the Funding Opportunity Announcement. The actual Funding Opportunity Announcement will allow for requests for explanation and/or interpretation.

Issued in Pittsburgh, PA on December 19, 2003.
Dale A. Siciliano,
Director, Acquisition and Assistance Division.

[FR Doc. 03-32266 Filed 12-31-03; 8:45 am]

BILLING CODE 6450-01-P